DEPARTMENT OF TRANSPORTATION

Federal Aviation Administration

14 CFR Part 71

[Docket No. FAA 2007-27512, Airspace Docket No. 07-AEA-01]

Establishment of Class E Airspace; Front Royal-Warren County, VA

AGENCY: Federal Aviation Administration (FAA), DOT.

ACTION: Direct final rule; confirmation of effective date.

SUMMARY: This action establishes a Class E airspace area at Front Royal-Warren County Airport, Front Royal, VA (KFFR) to provide for adequate controlled airspace for those aircraft using the new Area Navigation (RNAV) Instrument Approach Procedure to the Airport.

DATES: Effective 0901 UTC, July 5, 2007. The Director of the Federal Register approves this incorporation by reference action under Title 1, Code of Federal Regulations, part 51, subject to the annual revision of FAA Order 7400.9

FOR FURTHER INFORMATION CONTACT: Mark D. Ward, Manager, System Support, AJ02-E2, FAA Eastern Service Center, 1701 Columbia Ave., College Park, GA 30337; telephone (404) 305-5570; fax (404) 305-5099.

SUPPLEMENTARY INFORMATION:

Confirmation of Effective Date

The FAA published this direct final rule with a request for comments in the Federal Register on May 9, 2007 (72 FR 26287-26288). The FAA uses the direct final rulemaking procedure for a non-controversial rule where the FAA believes that there will be no adverse public comment. This direct final rule advised the public that no adverse comments were anticipated, and that unless a written adverse comment, or a written notice of intent to submit such an adverse comment, were received within the comment period, the regulation would become effective on July 5, 2007. No adverse comments were received, and thus this notice confirms that this direct final rule will become effective on that date.

Issued in College Park, GA on June 7, 2007.
Mark D. Ward,
Group Manager, System Support Group, AJO2-E2, Eastern Service Center.

[FR Doc. 07-3201 Filed 7-2-07; 8:45 am]

BILLING CODE 4910-13-M